DEPARTMENT OF HOMELAND SECURITY

Coast Guard

33 CFR Part 117

[Docket No. USCG-2018-0356]

Drawbridge Operation Regulation; Atlantic Intracoastal Waterway, Boca Raton, FL

AGENCY: Coast Guard, DHS.

ACTION: Notice of deviation from drawbridge regulation.

SUMMARY: The Coast Guard has issued a temporary deviation from the operating schedule that governs the Camino Real (Boca Club) Bridge across the Atlantic Intracoastal Waterway, mile 1048.2, at Boca Raton, FL. The deviation is necessary to facilitate the bridge rehabilitation project. This deviation allows the bridge single-leaf operations with advanced notice for a full bridge opening.

DATES: This deviation is effective without actual notice from April 27, 2018 through 7 p.m. on October 9, 2018. For the purposes of enforcement, actual notice will be used from 7 a.m. on April 23, 2018, until April 27, 2018.

ADDRESSES: The docket for this deviation, USCG-2018-0356 is available at http://www.regulations.gov. Type the docket number in the “SEARCH” box and click “SEARCH”. Click on Open Docket Folder on the line associated with this deviation.

FOR FURTHER INFORMATION CONTACT: If you have questions on this temporary deviation, call or email LT Ruth Sadowitz, U.S. Coast Guard Sector Miami, Waterways Management Division; telephone 305-535-4307, email ruth.a.sadowitz@uscg.mil.

SUPPLEMENTARY INFORMATION: Kiewit Infrastructure South Co., on behalf of the bridge owner, Palm Beach County, has requested a temporary deviation from the current operating regulation that governs the Camino Real (Boca Club) Bridge across the Atlantic Intracoastal Waterway, mile 1048.2, at Boca Raton, FL. The deviation is necessary to facilitate the bridge rehabilitation project. The existing bridge is a double-leaf bascule bridge with a vertical clearance of 10 feet at mean high water in the closed to navigation position and a horizontal clearance of 83 feet between the fender system.

The existing bridge operating regulation is set out in 33 CFR 117.261(aa-1). Under this temporary deviation, on April 23, 2018 through October 9, 2018, from 7 a.m. to 7 p.m. Monday through Saturday, the bridge will operate on single-leaf openings with a 6-hour advanced notice for a full opening. During non-working hours, the bridge will operate per the normal bridge operating schedule.

The Atlantic Intracoastal Waterway is used by a variety of vessels including U.S. government vessels, small commercial vessels, recreational vessels and tugs and barge traffic. The Coast Guard has carefully considered the restrictions with waterway users in publishing this temporary deviation.

Vessels able to pass through the bridge in the closed position may do so at any time. The bridge will not be able to provide a full opening for emergencies and there is no immediate alternate route for vessels to pass. The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: April 23, 2018.
Barry L. Dragon,
Director, Bridge Branch, Seventh Coast Guard District.

[FR Doc. 2018-08867 Filed 4-26-18; 8:45 am]

BILLING CODE 9110-04-P